DEPARTMENT OF TRANSPORTATION

Coast Guard

[USCG-2000-7833]

Draft Programmatic Environmental Impact Statement for Vessel and Facility Response Plans for Oil: 2003 Removal Equipment Requirements and Alternative Technology Revisions

Correction

In notice document 05-10972 beginning on page 31487 in the issue of Wednesday, June 1, 2005, make the following correction:

On page 31487, in the second column, the docket line should read as set forth above.

[FR Doc. C5-10972 Filed 6-7-05; 8:45 am]

BILLING CODE 1505-01-D